DEPARTMENT OF TRANSPORTATION

Federal Transit Administration

FTA Fiscal Year 2004 Apportionments, Allocations and Program Information

AGENCY: Federal Transit Administration (FTA), DOT.

ACTION: Notice.

SUMMARY: The “Consolidated Appropriations Act, 2004”, (Public Law 108-199), which was signed into law by President Bush on January 23, 2004, includes appropriations for the Department of Transportation for the fiscal year ending September 30, 2004, and provides FY 2004 appropriations for the Federal Transit Administration (FTA) transit assistance programs. Pending further consideration of a multi-year authorization, Congress has passed a five-month extension of the Transportation Equity Act for the 21st Century (TEA-21), known as the Surface Transportation Extension Act of 2003 (Public Law 108-88). This act, signed by President Bush on September 30, 2003, provides additional funding authorizations for transit and highway programs for the period October 1, 2003, through February 29, 2004. The previous authorizations, under TEA-21, were effective through September 30, 2003.

This notice contains (1) a listing of the full amount of the FY 2004 apportionments and allocations for the formula, capital, and transit planning and research programs, including both trust funds and general funds, based on the Consolidated Appropriations Act, 2004 and Federal transit laws; and (2) a listing of apportionments and allocations based on the FY 2004 available funding for formula, capital, and transit planning and research programs, in accordance with the Consolidated Appropriations Act, 2004 and the Surface Transportation Extension Act of 2003. This includes the total of general funds made available in the Consolidated Appropriations Act, 2004 and a portion of contract authority under the Surface Transportation Extension Act of 2003. As soon as authorizing legislation covering the remainder of the fiscal year, March 1, 2004, through September 30, 2004, or a portion of it has been enacted the entire apportionment or the additional authority will be made available. If the authorization act affects the distribution of funds within the programs, FTA will republish the apportionments and allocations in their entirety, taking the provisions of both the Consolidated Appropriations Act, 2004 and the authorization act into consideration.

In addition, prior year unobligated allocations for the section 5309 New Starts, Bus and Bus-Related and Job Access and Reverse Commute (JARC) programs are listed. The FTA policy regarding pre-award authority to incur project costs, Letter of No Prejudice Policy, and other pertinent program information are provided.

FOR FURTHER INFORMATION CONTACT: The appropriate FTA Regional Administrator for grant-specific information and issues; Mary Martha Churchman, Director, Office of Resource Management and State Programs, (202) 366-2053, for general information about the Urbanized Area Formula Program, the Nonurbanized Area Formula Program, the Rural Transit Assistance Program, the Elderly and Persons with Disabilities Program, the Clean Fuels Formula Program, the Over-the-Road Bus Accessibility Program, the Capital Investment Program, or the Job Access and Reverse Commute Program; Paul L. Verchinski, Chief, Planning Oversight Division, (202) 366-1626, for general information concerning the Metropolitan Planning Program and the Statewide Planning and Research Program; or Bruce Robinson, Office of Research, Demonstration and Innovation, (202) 366-4209, for general information about the National Planning and Research Program.

SUPPLEMENTARY INFORMATION:

Table of Contents

I. Background

II. Overview

A. General

B. Funds Available for Obligation

C. Project Management Oversight

III. Fiscal Year 2004 Focus Areas

A. Transit Safety and Security

B. Ridership

C. Transportation Coordination

D. Special Transit Provisions in the Consolidated Appropriations Act, 2004

IV. Metropolitan Planning Program and Statewide Planning and Research Program

A. Metropolitan Planning Program

B. Statewide Planning and Research Program

C. FHWA Metropolitan Planning Program and State Planning and Research Program

D. Local Match Waiver for Specified Planning Activities

E. Planning Emphasis Areas for Fiscal Year 2004

F. Consolidated Planning Grants

V. Urbanized Area Formula Program

A. Total Urbanized Area Formula Apportionments

B. Data Used for Urbanized Area Formula Apportionments

C. Urbanized Area Formula Apportionments to Governors

D. Transit Enhancements

E. Fiscal Year 2004 Operating Assistance

F. Designated Transportation Management Areas

G. Urbanized Area Formula Funds Used for Highway Purposes

VI. Nonurbanized Area Formula Program and Rural Transit Assistance Program

A. Nonurbanized Area Formula Program

B. Rural Transit Assistance Program

VII. Elderly And Persons With Disabilities Program

VIII. FHWA Surface Transportation Program and Congestion Mitigation and Air Quality Funds Used for Transit Purposes

A. Transfer Process

B. Matching Share for FHWA Transfers

IX. Capital Investment Program

A. Fixed Guideway Modernization

B. New Starts

C. Bus and Bus-Related

X. Job Access And Reverse Commute Program

XI. Over-the-Road Bus Accessibility Program

XII. Clean Fuels Formula Program

XIII. National Planning and Research Program

XIV. Unit Values of Data for Urbanized Area Formula Program, Nonurbanized Area Formula Program, and Fixed Guideway Modernization

XV. Period of Availability of Funds

XVI. Automatic Pre-Award Authority to Incur Project Costs

A. Policy

B. Conditions

C. Environmental, Planning, and Other Federal Requirements

D. Pre-award Authority for New Starts Projects

XVII. Letter of No Prejudice (LONP) Policy

A. Policy

B. Conditions and Federal Requirements

C. Request for LONP

XVIII. Program Guidance

XIX. FTA Fiscal Year 2004 Annual List of Certifications and Assurances

XX. Grant Application Procedures

Tables

1. FTA FY 2004 Appropriations, Apportionments, and Available Funding for Grant Programs

2. FTA FY 2004 Metropolitan Planning Program and Statewide Planning And Research Program Apportionments

3. FHWA FY 2004 Metropolitan Planning Program (PL) Available Apportionments

4. FTA FY 2004 Urbanized Area Formula Apportionments

5. FTA FY 2004 Nonurbanized Area Formula Apportionments, and Rural Transit Assistance Program (RTAP) Allocations

6. FTA FY 2004 Elderly And Persons With Disabilities Apportionments

7. FTA FY 2004 Fixed Guideway Modernization Apportionments

8. FTA FY 2004 New Starts Allocations

8A. FTA Prior Year Unobligated New Starts Allocations

9. FTA FY 2004 Bus and Bus-Related Allocations

9A. FTA Prior Year Unobligated Bus and Bus-Related Allocations

10. FTA FY 2004 National Planning and Research Program Allocations

11. FTA FY 2004 Job Access and Reverse Commute (JARC) Allocations

11A. FTA Prior Year Unobligated JARC Allocations

12. FTA FY 2004 Apportionment Formula for Urbanized Area Formula Program

13. FTA FY 2004 Fixed Guideway Modernization Program Apportionment Formula

14. FTA FY 2004 Formula Grant Apportionments Unit Values of Data

15. 2000 Census Urbanized Areas with Populations 200,000 or Greater Eligible to Use FY 2004 Section 5307 Funds for Operating Assistance

I. Background

Metropolitan Planning funds are apportioned by statutory formula to the States for allocation to Metropolitan Planning Organizations (MPOs) in urbanized areas or portions thereof to provide funds for their Unified Planning Work Programs. Statewide Planning and Research funds are apportioned to States by statutory formula to provide funds for their Statewide Planning and Research Programs. Urbanized Area Formula Program funds are apportioned by statutory formula to urbanized areas and to Governors to provide capital, operating and planning assistance in urbanized areas. Nonurbanized Area Formula Program funds are apportioned by statutory formula to Governors for capital, operating and administrative assistance in nonurbanized areas. Elderly and Persons with Disabilities Program funds are apportioned by statutory formula to Governors to provide capital assistance to organizations providing transportation service for the elderly and persons with disabilities. Fixed Guideway Modernization funds are apportioned by statutory formula to specified urbanized areas for capital improvements in rail and other fixed guideways. New Starts identified in the Consolidated Appropriations Act, 2004 and Bus and Bus-Related Allocations identified in the Conference Report accompanying the Act are included in this notice. Congressional allocations of the Job Access and Reverse Commute Program (JARC) included in the Conference Report are also included, as provided for in the Consolidated Appropriations Act, 2004. Over-the-Road Bus Accessibility Program funds are allocated on a competitive basis.

FTA will honor those discretionary project designations included in Conference Report language for Bus and Bus-Related and JARC, to the extent that the projects meet the statutory intent of the specific program. Requests for reprogramming of funding for projects that are found not to be consistent with the statutory intent of the program or project activities outside the scope of the project designation included in report language should be directed to the House and Senate Committees on Appropriations for resolution.

II. Overview

A. General

Table 1 displays the appropriations and obligation limitation for the FTA programs. Also listed is the amount of FY 2004 funds currently available for obligation for each program. The amounts have been adjusted from the FY 2004 enacted levels to reflect an across-the-board .59 percent rescission proportionately applied to the discretionary budget authority and obligation limitation, and to each program, project and activity, as directed by Section 168 of Division H of the Consolidated Appropriations Act, 2004. The following text provides a narrative explanation of the funding levels and other factors affecting the apportionments and allocations.

B. Funds Available for Obligation

The Consolidated Appropriations Act, 2004 provides a combination of trust and general funds that total $7.309 billion for FTA programs. After applying the across-the-board .59 percent rescission, as directed by Section 168 of Division H of the Consolidated Appropriations Act, 2004, new funding for FTA programs is $7.266 billion.

Because the Surface Transportation Extension Act of 2003 only provides contract authority through February 29, 2004, FTA is publishing both (1) the apportionment and allocation tables that contain the full program levels in the Consolidated Appropriations Act, 2004; and (2) the apportionments and allocations based on FY 2004 funds available for the FTA program. The column labeled “Apportionment” or “Allocation” includes both trust funds (contract authority) and general funds, and reflects the total dollar amount of obligation limitation and appropriations in the Consolidated Appropriations Act, 2004, once a full year contract authority is made available. This amount does not represent the amount that is actually available for obligation at this time. The amount shown in the column labeled “Available Apportionment” or “Available Allocation” is available for obligation.

C. Project Management Oversight

Section 5327 of title 49 U.S.C., permits the Secretary of Transportation to use up to one-half percent of the funds made available under the Urbanized Area Formula Program and the Nonurbanized Area Formula Program, and three-quarters percent of funds made available under the Capital Investment Program to contract with any person to oversee the construction of any major project under these statutory programs; to conduct safety, procurement, management and financial reviews and audits; and to provide technical assistance to correct deficiencies identified in compliance reviews and audits. Section 319 of the FY 2002 DOT Appropriations Act increased the amount made available under the Capital Investment Program for oversight activities to one percent, for FY 2002 and thereafter.

III. Fiscal Year 2004 Focus Areas

FTA draws attention to the following areas of particular interest in FY 2004 relative to the FTA programs.

A. Transit Safety and Security

The Federal Transit Administration (FTA) has undertaken a series of major steps to help prepare the transit industry to counter terrorist threats. Key to these efforts is emergency preparedness, employee training and public awareness, three of the most important transit security priorities for the future. Transit security must remain in the forefront as the immediacy of September 11, 2001, fades over time. To that end, FTA is continuing to provide security and emergency planning technical assistance to transit agencies, updating transit employee training courses as well as developing new curricula and will continue to hold “Connecting Communities” security forums across the country. In addition, FTA has launched a nationwide safety and security public awareness program, “TransitWatch”, that encourages the active participation of transit passengers and employees in maintaining a safe transit environment.

Although the transit industry has made great strides in strengthening security and emergency preparedness, there is much more to do. Detailed information about these three areas and other important actions can be found in FTA's list of Top 20 Security Program Action Items for transit agencies. These 20 action items are based on good security practices identified through FTA's Security Assessments and the technical assistance program. The Top 20 Security Program Action Items can be found on FTA's Web site at http://transit-safety.volpe.dot.gov/security/SecurityInitiatives/Top20/default.asp. FTA will work with transit agencies to assist them as they incorporate these practices into their programs.

B. Ridership

FTA's strategic business plan establishes FTA's core values and identifies a number of strategic goals for sustaining these values over the next three years. Specifically, FTA seeks to deliver products and services that are valued by its customers and to assist transit agencies in better meeting the needs of their customers. Increasing transit ridership is a key measure of success in achieving this objective. FTA has further identified a goal of achieving an average 2.0 percent increase in the number of transit passenger boardings per transit agency, controlling for changes in local economic conditions by adjusting ridership by employment levels. FTA is continuing work on a range of research, guidance, and other technical assistance to support State and local transit efforts to increase ridership. FTA encourages all transit agencies to focus attention on ways to increase transit ridership, and will be issuing further information about the FTA ridership initiative throughout FY 2004.

C. Transportation Coordination

Without adequate transportation services, many older Americans, persons with disabilities, and individuals with low-incomes are often unable to access work, medical services, educational resources or recreation opportunities. The social and economic consequences of inadequate transportation can be enormous.

In June of 2003, the General Accounting Office issued a report on Transportation for Disadvantaged Populations. This report highlights the complex nature of coordinating multiple funding resources for a variety of client populations. Because of the complex issues related to coordinating resources to improve human service transportation, DOT has been actively working with other Federal agencies including the Departments of Health and Human Services, Labor, and Education. While the broad collaborative efforts focus on cross-cutting issues, there are also subcommittees and distinct activities addressing the unique needs of older adults, people with disabilities, and low-income populations, and issues related to medical transportation services. FTA is encouraging transportation and human service leaders in every community to work together to assess existing transportation services, determine unmet needs and institute resource strategies that will help bridge the gaps. Using available Federal transportation funds in the most effective coordinated manner has become especially important as States and communities deal with budget shortfalls.

To assist States and communities in moving forward, FTA and our federal partners have introduced a five point initiative, including, technical assistance, State recognition awards, and the issuance of a Framework for Action, a self-assessment tool for both States and communities. FTA encourages States and communities to use the Framework for Action (available on the FTA Web site at http://www.fta.dot.gov/CCAM/framework.html) as a planning tool to improve service coordination.

D. Special Transit Provisions in the Consolidated Appropriations Act, 2004

Procurement Pilot Program—Section 166 of the FTA general provisions in the Consolidated Appropriations Act, 2004 directs that a procurement pilot program be established to determine the benefits of encouraging cooperative procurement of major capital equipment under sections 5307, 5309, and 5311. The program will consist of three pilot projects, which may be carried out by grantees, consortiums of grantees, or members of the private sector acting as agents of grantees. The Federal share for a grant under this pilot program will be 90 percent of net project cost. FTA is working to develop procedures and guidance to implement this program. Details will be forthcoming.

Restriction on Advertisements for Controlled Substances—Section 177 of the FTA general provisions in the Consolidated Appropriations Act, 2004 provides that none of the funds made available in this Act shall be available to any Federal transit grantee after February 1, 2004, involved directly or indirectly, in any activity that promotes the legalization or medical use of any substance listed in schedule I of section 202 of the Controlled Substance Act (21 U.S.C. 812 et seq.).

IV. Metropolitan Planning Program and State Planning and Research Program

A. Metropolitan Planning Program

The Consolidated Appropriations Act, 2004 provides $60,029,325 to the Metropolitan Planning Program (49 U.S.C. 5303) after the across-the-board .59 percent rescission. The FY 2004 Metropolitan Planning Program apportionment to States for MPOs' use in urbanized areas totals $61,456,193. This amount includes $60,029,325 in FY 2004 funds, and $1,426,868 in prior year funds available for reapportionment under this program. A basic allocation of 80 percent of this amount ($49,164,954) is distributed to the States based on the State's urbanized area population as defined by the U.S. Census Bureau for subsequent State distribution to each urbanized area, or parts thereof, within each State. A supplemental allocation of the remaining 20 percent ($12,291,238) is also provided to the States based on an FTA administrative formula to address planning needs in the larger, more complex urbanized areas. Table 2 displays the State apportionments for the combined basic and supplemental allocations. Table 2 also shows the amount of a State's apportionment that is currently available for obligation, in accordance with the Surface Transportation Extension Act of 2003.

All States have either reaffirmed or developed, in consultation with their MPOs, new allocation formulas as a result of the 2000 Census. These formulas may be changed annually, but require approval by the FTA regional office prior to grant approval.

B. Statewide Planning and Research Program

The Consolidated Appropriations Act, 2004 provides $12,539,975 to the Statewide Planning and Research Program (49 U.S.C. 5313(b)) after the across-the-board .59 percent rescission. The FY 2004 apportionment for the Statewide Planning and Research Program (SPRP) totals $13,259,049. This amount includes $12,539,975 in FY 2004 funds, and $719,074 in prior year funds available for reapportionment under this program. Final State apportionments for this program are also contained in Table 2. Table 2 also shows the amount of a State's apportionment that is currently available for obligation, in accordance with the Surface Transportation Extension Act of 2003.

These funds may be used for a variety of purposes such as planning, technical studies and assistance, demonstrations, management training, and cooperative research. In addition, a State may authorize a portion of these funds to be used to supplement metropolitan planning funds allocated by the State to its urbanized areas, as the State deems appropriate.

C. FHWA Metropolitan Planning Program and State Planning and Research Program

For informational purposes, the FY 2004 apportionments for the FHWA Metropolitan Planning Program (PL) that are available under the Surface Transportation Extension Act of 2003 are contained in Table 3. Apportionments for the FY 2004 FHWA State Planning and Research Program (SPRP) and for the full 12 months of the PL were not available at the time of publication of this notice. When the information becomes available it will be posted on the FHWA Web site at http://www.fhwa.dot.gov/legsregs/directives/notices/n4510511.htm.

D. Local Match Waiver for Specified Planning Activities

Job Access and Reverse Commute Planning. Federal, State and local welfare reform initiatives may require the development of new and innovative public and other transportation services to ensure that former welfare recipients have adequate mobility for reaching employment opportunities. In recognition of the key role that transportation plays in ensuring the success of welfare-to-work initiatives, FTA and FHWA permit the waiver of the local match requirement for Job Access and Reverse Commute planning activities undertaken with both FTA and FHWA Metropolitan Planning Program and State Planning and Research Program funds. FTA and FHWA will support requests for waivers when they are included in Metropolitan Unified Planning Work Programs and State Planning and Research Programs and meet all other requirements.

E. Planning Emphasis Areas for Fiscal Year 2004

The FTA and FHWA identify Planning Emphasis Areas (PEAs) annually to promote priority themes for consideration, as appropriate, in metropolitan and statewide Unified Planning Work Programs proposed for FTA and FHWA funding in FY 2004. While we try to make the PEAs available at the beginning of the Federal fiscal year, we realize even the October 1 date may be too late for some planning organizations to address the PEAs in their upcoming work programs. In such a case, the FY 2004 PEAs can be considered in the development of UPWPs during FY 2004 even though the UPWP might not be approved until early in FY 2005. FTA and FHWA provide support for the PEAs through the Transportation Planning Capacity Building Program, which can be accessed at http://www.planning.dot.gov/. Opportunities for exchanging ideas and experiences on innovative practices in these topical areas also will be provided throughout the year. For FY 2004, five key planning themes have been identified: (1) Consideration of safety and security in the transportation planning process; (2) integration of planning and environmental processes; (3) consideration of management and operations within planning processes; (4) State DOT consultation with non-metropolitan local officials; and (5) enhancing the technical capacity of planning processes.

1. Safety and Security in the Transportation Planning Process. TEA-21 emphasizes the safety and security of transportation systems as a national priority and calls for transportation projects and strategies that “increase the safety and security of transportation systems.” This entails integration of safety and security into all stages of the transportation planning process.

FTA and FHWA are working together to advance the state-of-practice in addressing safety and security in the metropolitan and statewide planning process through forums, training, research, workshops, and case studies. A report prepared by the Transportation Research Board (TRB), Transportation Research Circular E-C02, “Safety-Conscious Planning,” January 2001, describes the issues and recommendations identified at a Safety in Planning workshop held earlier. The report is available on the TRB Web site at http://www.nas.edu/trb. Also, the Institute of Transportation Engineers (ITE) has prepared a discussion paper on the topic, entitled “The Development of the Safer Network Transportation Planning Process,” which is posted to their Web site at http://www.ite.org.

2. Integrated Planning and Environmental Processes. TEA-21 mandated the elimination of the Major Investment Study as a stand-alone requirement, while integrating the concept within the planning and project development/environmental review processes. A training course entitled “Linking Planning and NEPA” has been piloted and will be made available in FY 2004 at the National Transit Institute Web site, http://www.ntionline.com. The course will also be posted on the National Highway Institute Web site http://www.nhi.fhwa.dot.gov/.

3. Consideration of Management and Operations within Planning Processes. TEA-21 challenges FHWA and FTA to move beyond traditional capital programs for improving the movement of people and goods—focusing on the need to improve the way transportation systems are managed and operated. FTA and FHWA have convened a working group and have commissioned discussion papers on the topic. This information is available at http://plan2op.fhwa.dot.gov.

4. State DOT Consultation With Non-Metropolitan Local Officials. On January 23, 2003, the FTA and FHWA issued a final Rule on consultation, followed by a technical correction on February 14, 2003, which can be accessed at http://www.fta.dot.gov/library/legal/federalregister/2003/fr12303.html and http://www.fta.dot.gov/library/legal/federalregister/2003/fr21403.html. This final rule amends the 1993 Joint FTA/FHWA Planning regulation published in the Federal Register, Volume 58, No. 207, on October 28, 1993. Consultation is a vital issue within the transportation planning process. Each State shall have a documented process(es) that implements consultation with non-metropolitan local officials in the statewide planning process and development of the statewide transportation improvement program by February 24, 2004. The documented process(es) must be separate and discrete from the State's public involvement process. The FTA and FHWA have worked with each State to help facilitate development of the documented process(es), but will not review or approve the documented process(es). However, the FTA and FHWA in the State Planning Finding will comment on progress toward accomplishing the documented process(es) and its implementation. Since consultation is a vital issue, each State shall review its documented process and solicit comments regarding the effectiveness of its consultation process within two years of adopting its documented process, and thereafter, at least once every five years. The National Association of Development Organizations at http://www.nado.org/rtoc/best_practices/index.html has summaries of some State models for using regional planning and development organizations to help facilitate the input and involvement of rural local officials in the transportation planning and programming process.

5. Enhancing the Technical Capacity of Planning Processes. Reliable information on current and projected usage and performance of transportation systems is critical to the ability of planning processes to supply credible information to decision-makers to support preparation of plans and programs that respond to their localities' unique needs and policy issues. To ensure the reliability of usage and performance data, as well as the responsiveness of policy forecasting tools, an evaluation is needed of the quality of information provided by the technical tools, data sources, and forecasting models, as well as the expertise of staff to ensure its adequacy to support decision-making. If this expertise is found to be lacking, the responsible agencies within metropolitan and statewide planning processes are encouraged to devote appropriate resources to enhance and maintain their technical capacity.

For further information on these PEAs, contact Candace Noonan, FTA Office of Planning and Environment, (202) 366-1648, or John Humeston, FHWA Office of Planning, (404) 562-3667.

F. Consolidated Planning Grants

Since FY 1997, FTA and FHWA have offered States the option of participating in a pilot Consolidated Planning Grant (CPG) program. Information concerning participation in the CPG program can be found on the FTA Web site at http://www.fta.dot.gov/office/public/cpg.htm. For further information on participating in the CPG Pilot, contact Candace Noonan, Office of Planning and Environment, FTA, at (202) 366-1648 or Anthony Solury, Office of Planning, FHWA, at (202) 366-5003.

V. Urbanized Area Formula Program

A. Total Urbanized Area Formula Apportionments

The Consolidated Appropriations Act, 2004 provides $3,425,608,562 to the Urbanized Area Formula Program (49 U.S.C. 5307) after the across-the-board .59 percent rescission. In addition, $3,039,008 in prior year funds became available for reapportionment under the Urbanized Area Formula Program as provided by 49 U.S.C. 5336(i).

After reserving $17,128,043 for oversight, the amount of FY 2004 funds available for apportionment is $3,408,480,519. The funds to be reapportioned, described in the previous paragraph, are then added and increase the total amount apportioned for this program to $3,411,519,527. Table 4 displays the amounts apportioned under the Urbanized Area Formula Program. Table 4 also shows, by urbanized area and State, the amount currently available for obligation in accordance with the Surface Transportation Extension Act of 2003. Table 12 contains the apportionment formula for the Urbanized Area Formula Program.

Additional funds in the amount of $4,821,335 are appropriated for the Alaska Railroad for improvements to its passenger operations after the across-the-board .59 percent rescission. After reserving $24,107 for oversight, $4,797,228 remains to finance Alaska Railroad projects. Of this amount $2,567,792 is currently available for obligation, in accordance with the Surface Transportation Extension Act of 2003. Funds appropriated for the Alaska Railroad are allocated in lieu of apportioning funds for the Anchorage, AK urbanized area under the fixed guideway tier of the section 5307 formula using data attributable to the Alaska Railroad Corporation.

B. Data Used for Urbanized Area Formula Apportionments

Data from the 2002 National Transit Database (NTD) Report Year were used to calculate the FY 2004 Urbanized Area Formula apportionments for urbanized areas with populations of 200,000 or more. The 2000 Census population and population density data are also used in calculating apportionments under the Urbanized Area Formula Program.

C. Urbanized Area Formula Apportionments to Governors

The total Urbanized Area Formula apportionment to the Governor (and the amount currently available for obligation in accordance with the Surface Transportation Extension Act of 2003) for use in areas under 200,000 in population for each State are shown in Table 4. This table also contains the apportionment amount attributable to each urbanized area within the State. The Governor may determine the allocation of funds among the urbanized areas under 200,000 in population with the following exception: as further discussed in Section F, below, funds attributed to an urbanized area under 200,000 in population and located within the planning boundaries of a Transportation Management Area, must be obligated to that small urbanized area.

D. Transit Enhancements

One percent of the Urbanized Area Formula Program apportionment in each urbanized area with a population of 200,000 or more must be made available only for transit enhancements. Table 4 shows the amount set aside for enhancements in these areas.

The term “transit enhancement” includes projects or project elements that are designed to enhance mass transportation service or use and are physically or functionally related to transit facilities. Eligible enhancements include the following: (1) Historic preservation, rehabilitation, and operation of historic mass transportation buildings, structures, and facilities (including historic bus and railroad facilities); (2) bus shelters; (3) landscaping and other scenic beautification, including tables, benches, trash receptacles, and street lights; (4) public art; (5) pedestrian access and walkways; (6) bicycle access, including bicycle storage facilities and installing equipment for transporting bicycles on mass transportation vehicles; (7) transit connections to parks within the recipient's transit service area; (8) signage; and (9) enhanced access for persons with disabilities to mass transportation.

It is the responsibility of the MPO to determine how the one percent will be allotted to transit projects. The one percent minimum requirement does not preclude more than one percent being expended in an urbanized area for transit enhancements. However, items that are only eligible as enhancements—in particular, operating costs for historic facilities—may be assisted only within the one percent funding level.

The recipient must submit a report to the appropriate FTA regional office listing the projects or elements of projects carried out with those funds during the previous fiscal year and the amount awarded. The report must be submitted with the Federal fiscal year's final quarterly progress report in TEAM-Web. The report should include the following elements: (a) Grantee name, (b) urbanized area name and number, (c) FTA project number, (d) transit enhancement category, (e) brief description of enhancement and progress towards project implementation, (f) activity line item code from the approved budget, and (g) amount awarded by FTA for the enhancement.

E. Fiscal Year 2004 Operating Assistance

In general, FY 2004 funding for operating assistance is available only to urbanized areas with populations under 200,000. For these areas, there is no limitation on the amount of the State apportionment that may be used for operating assistance, and the Federal/local share ratio is 50/50. The Consolidated Appropriations Act, 2004 provides an exception to the restriction on operating assistance in areas over 200,000 in population for transit providers that provide mass transportation service exclusively to elderly persons and persons with disabilities within the urbanized area. The language in Section 176 of the General Provisions-Federal Transit Administration in the Consolidated Appropriations Act, 2004 stipulates that the number of vehicles operated by the eligible transit providers must be 25 or fewer vehicles and that operating assistance to all entities shall not exceed $10,000,000. The areas eligible under the criteria included in TEA-21 prior to this amendment have already been identified and notified.

The Surface Transportation Extension Act of 2003 also continues the provisions of Pub. L. 107-232, which allow transit systems in urbanized areas that, for the first time, exceeded 200,000 population according to the 2000 Census to use section 5307 funds for operating assistance. A list of the eligible 2000 Census urbanized areas (with populations 200,000 or greater) that may use FY 2004 funds for operating assistance is provided in Table 15. The table also shows the maximum amount of the area's FY 2004 apportionment that may be used for operating assistance and the amount of an area's apportionment currently available for obligation as operating assistance. The use of the urbanized area funds for operating assistance by these areas is restricted to projects carried out within the geographical or service area boundary of the affected 1990 census small (less than 200,000 population) urbanized area.

In addition, the Surface Transportation Extension Act of 2003 adds a provision that allows operating assistance, in an urbanized area at least 200,000, for a 2000 Census urbanized area if a portion of the area was not designated as an urbanized area as determined under the 1990 Federal decennial census and received assistance under section 5311 in FY 2002. The provision further stipulates that this portion of the urbanized area shall receive an amount of funds made available under section 5307 that is not less than the amount the portion of the area received under section 5311 in FY 2002. Affected areas are not identified in Table 15. A grant applicant for an area eligible to receive operating assistance under this provision that wants to make use of this provision must so state in the grant application. The application must identify the previously nonurbanized portion of the urbanized area that qualifies (i.e., that portion of the area that was not designated as urbanized under the 1990 census and received assistance under section 5311). Contact the appropriate FTA regional office for additional information or guidance if you intend to make use of this provision.

F. Designated Transportation Management Areas

All 2000 Census urbanized areas having a population of at least 200,000 have been designated as Transportation Management Areas (TMAs), in accordance with 49 U.S.C. 5305. In addition, the Santa Barbara, CA urbanized area, which did not meet the population threshold requirement for TMA status with respect to 2000 Census, retained its previously granted TMA status based on Gubernatorial request. These TMA designations were formally made in the FTA Notices at 67 FR 45173 et seq. (July 8, 2002) and 67 FR 62285 et seq. (October 4, 2002).

Guidance for setting the boundaries of TMAs is contained in the joint transportation planning regulations codified at 23 CFR part 450 and 49 CFR part 613. In some cases, the TMA planning boundaries, which have been established by the MPO for the designated TMA, also include one or more urbanized areas less than 200,000 in population. Where this situation exists, the discretion of the Governor to allocate Urbanized Area Formula program “Governor's Apportionment” funds for urbanized areas with less than 200,000 in population is restricted, i.e., the Governor only has discretion to allocate Governor's Apportionment funds attributable to areas that are outside of designated TMA planning boundaries.

If any additional small urbanized areas within the planning boundaries of a TMA are identified, notification should be made in writing to the Associate Administrator for Program Management, Federal Transit Administration, 400 Seventh Street, SW., Washington, DC 20590, no later than July 1 of each year. FTA has updated and provided below the list of urbanized areas with population less than 200,000 included within the planning boundaries of designated TMAs.

Designated TMA | Small urbanized area included in TMA boundary
Albany, NY | Saratoga Springs, NY.
Houston, TX | Galveston, TX; Lake Jackson-Angleton, TX; Texas City, TX; The Woodlands, TX.
Jacksonville, FL | St. Augustine, FL.
Orlando, FL | Kissimmee, FL.
Palm Bay-Melbourne, FL | Titusville, FL.
Philadelphia, PA-NJ-DE-MD | Pottstown, PA.
Pittsburgh, PA | Monessen, PA; Weirton, WV—Steubenville, OH-PA (PA portion); Uniontown-Connellsville, PA.
Seattle, WA | Bremerton, WA.
Washington, DC-VA-MD | Frederick, MD.

G. Urbanized Area Formula Funds Used for Highway Purposes

Urbanized Area Formula funds apportioned to a TMA can be transferred to FHWA and made available for highway projects if the following three conditions are met: (1) Such use must be approved by the MPO in writing after appropriate notice and opportunity for comment and appeal are provided to affected transit providers; (2) in the determination of the Secretary, such funds are not needed for investments required by the Americans with Disabilities Act of 1990 (ADA); and (3) the MPO determines that local transit needs are being addressed.

Urbanized Area Formula funds that are designated for highway projects will be transferred to and administered by FHWA. The MPO should notify FTA of its intent to use FTA funds for highway purposes, as prescribed in section VIII.A., below.

VI. Nonurbanized Area Formula Program and Rural Transit Assistance Program

A. Nonurbanized Area Formula Program

The Consolidated Appropriations Act, 2004 provides $239,188,058 to the Nonurbanized Area Formula Program (49 U.S.C. 5311) after across-the-board .59 percent rescission. The FY 2004 Nonurbanized Area Formula apportionments to the States total $238,501,062 and are displayed in Table 5. Of the $239,188,058 appropriated, $1,195,940 was reserved for oversight. The funds apportioned include $508,944 in prior year funds available for reapportionment. Table 5 also shows the amount of a State's apportionment that is currently available for obligation, in accordance with the Surface Transportation Extension Act of 2003.

The Nonurbanized Area Formula Program provides capital, operating and administrative assistance for areas under 50,000 in population. Each State must spend no less than 15 percent of its FY 2004 Nonurbanized Area Formula apportionment for the development and support of intercity bus transportation, unless the Governor certifies to the Secretary that the intercity bus service needs of the State are being adequately met.

B. Rural Transit Assistance Program

The Consolidated Appropriations Act, 2004 provides $5,219,025 to the Rural Transit Assistance Program (RTAP) (49 U.S.C. 5311(b)(2)) after the across-the-board .59 percent rescission. The FY 2004 RTAP allocations to the States total $5,219,104 and are displayed in Table 5. This amount includes $79 in prior year funds available for reapportionment. Table 5 also shows the amount of a State's allocation that is currently available for obligation, in accordance with the Surface Transportation Extension Act of 2003.

The funds are allocated to the States to undertake research, training, technical assistance, and other support services to meet the needs of transit operators in nonurbanized areas. These funds are to be used in conjunction with a State's administration of the Nonurbanized Area Formula Program.

FTA also supports RTAP activities at the national level within the National Planning and Research Program (NPRP). The National RTAP activities support the States in their provision of training and technical assistance. Congress did not designate any funds for the National RTAP among the NPRP allocations in the Conference Report accompanying the Consolidated Appropriations Act, 2004. FTA will, however, consider the National RTAP among projects to be funded from the limited available NPRP funds.

VII. Elderly and Persons With Disabilities Program

The Consolidated Appropriations Act, 2004 provides $90,117,950 to the Elderly and Persons with Disabilities Program (49 U.S.C. 5310) after the across-the-board .59 percent rescission. The FY 2004 Elderly and Persons with Disabilities Program apportionments to the States total $90,361,027 and are displayed in Table 6. The funds apportioned include $243,077 in prior year funds available for reapportionment. Also displayed in Table 6 is the amount of a State's apportionment currently available for obligation, in accordance with the Surface Transportation Extension Act of 2003.

The formula for apportioning these funds uses 2000 Census population data for persons aged 65 and over and for persons with disabilities. The funds provide capital assistance for transportation for elderly persons and persons with disabilities. Eligible capital expenses may include, at the option of the recipient, the acquisition of transportation services by a contract, lease, or other arrangement.

While the assistance is intended primarily for private non-profit organizations, public bodies that coordinate services for the elderly and persons with disabilities, or any public body that certifies to the State that there are no non-profit organizations in the area that are readily available to carry out the service, may receive these funds.

These funds may be transferred by the Governor to supplement Urbanized Area Formula or Nonurbanized Area Formula capital funds during the last 90 days of the fiscal year.

VIII. FHWA Surface Transportation Program and Congestion Mitigation and Air Quality Funds Used for Transit Purposes

A. Transfer Process

The process for transferring flexible formula funds between FTA and FHWA programs is described below. For information on the transfer of FHWA funds to FTA planning programs contact the FTA/FHWA staff identified in section IV.F, above.

Transfer from FHWA to FTA. FHWA funds designated for use in transit capital projects must be derived from the metropolitan and statewide planning and programming process, and must be included in an approved Statewide Transportation Improvement Program (STIP) before the funds can be transferred. By letter the State DOT requests the FHWA Division Office to transfer highway funds for a transit project. The letter should specify the project, amount to be transferred, apportionment year, State, Federal aid apportionment category (i.e., Surface Transportation Program (STP), Congestion Mitigation and Air Quality (CMAQ), Interstate Substitute, or congressional earmark), and should include a description of the project as contained in the STIP.

The FHWA Division Office confirms that the apportionment amount is available for transfer and concurs in the transfer by letter to the State DOT and FTA. The FHWA Office of Budget and Finance then transfers obligation authority and an equal amount of cash to FTA. All FHWA CMAQ, STP, and congressional earmarked funds for transit projects in the Appropriations Act or Conference Report will be transferred to one of the three FTA formula programs (i.e. Urbanized Area Formula (section 5307), Nonurbanized Area Formula (section 5311) or Elderly and Persons with Disabilities (section 5310).

The FTA grantee's application for the project must specify which program the funds will be used for and the application should be prepared in accordance with the requirements and procedures governing that program. Upon review and approval of the grantee's application, FTA obligates funds for the project.

Transferred funds are treated as FTA formula funds, but are assigned a distinct identifying code for tracking purposes. The funds may be used for any capital purpose eligible under the FTA formula program to which they are transferred and, in the case of CMAQ, for certain operating costs. FTA and FHWA have issued guidance on project eligibility under the CMAQ program in a Notice at 65 FR 9040 et seq. (February 23, 2000). In accordance with 23 U.S.C. 104(k), all FTA requirements except local share are applicable to transferred funds; FHWA local share requirements apply to funds transferred from FHWA to FTA. Transferred funds should be combined with regular FTA funds in a single annual grant application.

In the event that transferred funds are not obligated for the intended purpose within the period of availability of the program to which they were transferred, they become available to the Governor for any eligible transit project.

Transfers from FTA to FHWA. The Metropolitan Planning Organization (MPO) submits a written request to the FTA Regional Office for a transfer of FTA section 5307 formula funds (apportioned to an urbanized area 200,000 and over in population) to FHWA based on approved use of the funds for highway purposes, as contained in the Governor's approved State Transportation Improvement Program. The MPO must certify that: (1) The funds are not needed for capital investments required by the Americans with Disabilities Act; (2) notice and opportunity for comment and appeal has been provided to affected transit providers; and (3) local funds used for non-Federal match are eligible to provide assistance for either highway or transit projects. The FTA Regional Administrator reviews and concurs in the request, then forwards the approval to FTA Headquarters, where a reduction equal to the dollar amount being transferred to FHWA is made to the grantee's urbanized area formula apportionment.

For information regarding these procedures, please contact Kristen D. Clarke, FTA Budget Office, at (202) 366-1686; or James V. Lunetta, FHWA Finance Division, at (202) 366-2845.

B. Matching Share for FHWA Transfers

The provisions of Title 23 U.S.C. regarding the non-Federal share apply to Title 23 funds used for transit projects. Thus, FHWA funds transferred to FTA retain the same matching share that the funds would have if used for highway purposes and administered by FHWA.

There are three instances in which a Federal share higher than 80 percent would be permitted. First, in States with large areas of Indian and certain public domain lands and national forests, parks and monuments, the local share for highway projects is determined by a sliding scale rate, calculated based on the percentage of public lands within that State. This sliding scale, which permits a greater Federal share, but not to exceed 95 percent, is applicable to transfers used to fund transit projects in these public land States. FHWA develops the sliding scale matching ratios for the increased Federal share.

Secondly, commuter carpooling and vanpooling projects and transit safety projects using FHWA transfers administered by FTA may retain the same 100 percent Federal share that would be allowed for ride-sharing or safety projects administered by the FHWA.

The third instance includes the 100 percent Federal safety projects; however, these are subject to a nationwide 10 percent program limitation.

IX. Capital Investment Program (49 U.S.C. 5309)

A. Fixed Guideway Modernization

The formula for allocating the Fixed Guideway Modernization funds contains seven tiers. The apportionment of funding under the first four tiers is based on data used to apportion the funding in FY 1997. Funding under the last three tiers is apportioned based on the latest available data on route miles and revenue vehicle miles on segments at least seven years old, as reported to the NTD.

Table 7 displays the FY 2004 Fixed Guideway Modernization apportionments and the amount of an area's apportionment that is currently available for obligation, in accordance with the Consolidated Appropriations Act, 2004 and the Surface Transportation Extension Act of 2003. Fixed Guideway Modernization funds apportioned for this section must be used for capital projects to maintain, modernize, or improve fixed guideway systems.

Eligible urbanized areas (those with a population of at least 200,000) with fixed guideway systems that are at least seven years old are entitled to receive Fixed Guideway Modernization funds. A request for the start-up service dates for fixed guideways has been incorporated into the NTD reporting system to ensure that all eligible fixed guideway data is included in the calculation of the apportionments. A threshold level of more than one mile of fixed guideway is required to receive Fixed Guideway Modernization funds. Therefore, urbanized areas reporting one mile or less of fixed guideway mileage under the NTD are not included.

The Consolidated Appropriations Act, 2004 provides $1,199,387,615 to the Fixed Guideway Modernization after the across-the-board .59 percent rescission. An amount of $11,993,876 is reserved for oversight, leaving $1,187,393,739 available for apportionment to eligible urbanized areas. Of this amount, $642,390,071 is currently available for obligation, in accordance with the Surface Transportation Extension Act of 2003.

Table 13 contains information regarding the Fixed Guideway Modernization apportionment formula.

B. New Starts

The Consolidated Appropriations Act, 2004 provides $1,320,498,097 to New Starts after the across-the-board .59 percent rescission. This amount includes transfers of $4,514,482 from unobligated FY 2000 and FY 2001 JARC funds, in accordance with language in the Consolidated Appropriations Act, 2004 and accompanying Conference Report. Of the $1,320,498,097 available, $13,204,981 is reserved for oversight activities, leaving $1,307,293,116 for allocations to projects. In addition, Congress directed that funds be made available from projects in previous appropriations acts, which increases the total amount made available to $1,307,293,121. The reallocated funds are derived from unobligated balances for the following projects: Boston-South Boston Piers transitways project, $2; and Massachusetts North Shore corridor project, $3. The final allocation for each New Starts project is listed in Table 8. Also displayed in Table 8 is the amount of each New Starts project allocation that is currently available for obligation, in accordance with the Surface Transportation Extension Act of 2003.

Prior year unobligated allocations for New Starts in the amount of $499,881,522 remain available for obligation in FY 2004. This amount includes $408,432,112 in fiscal years 2002 and 2003 unobligated allocations, and $91,449,410 for fiscal years 2000 and 2001 unobligated allocations that are extended in the FY 2004 Conference Report. These unobligated amounts are displayed in Table 8A.

Capital Investment Program funds for New Starts projects identified as having been extended in the FY 2004 Conference Report accompanying the Consolidated Appropriations Act, 2004 will lapse on September 30, 2004. A list of these extended projects and the amounts that remained unobligated as of September 30, 2003, is appended to Table 8A for reference.

C. Bus and Bus-Related

The Consolidated Appropriations Act, 2004 provides $623,499,520 for the purchase of buses, bus-related equipment and paratransit vehicles, and for the construction of bus-related facilities, after the across-the-board .59 percent rescission. This amount includes $20 million (adjusted for the .59 percent rescission) in FY 2004 funds transferred from the JARC program.

TEA-21 authorized a $100 million Clean Fuels Formula Program under 49 U.S.C. 5308 (described in section XII below). The program is authorized to be funded with $50 million from the Bus and Bus-Related category of the Capital Investment Program and $50 million from the Formula Program. However, the Consolidated Appropriations Act, 2004 directs FTA to transfer the formula portion to, and merge it with, funding provided for the Bus and Bus-Related category of the Capital Investment Program. The .59 percent across-the-board rescission has been applied to the $50 million. Thus, $673,204,520 of funds appropriated in FY 2004 is available for funding the Bus and Bus-Related category of the Capital Investment Program. In addition, Congress directed that funds made available for bus and bus facilities include $2,188,112 reallocated from projects in previous appropriations acts, which increases the total amount made available to $675,392,632. The reallocated funds are derived from FY 2001 unobligated balances for the following projects: (MA) Woburn, buses and bus facilities, $247,579; (NJ) Elizabeth Ferry Project, $495,157; (NY) Greenport Sag Harbor, ferries and vans, $59,419; (NY) Westchester and Duchess counties, vans, $148,063; and (PA) Phoenixville, transit related improvements, $1,237,894.

After reserving $6,732,045 for oversight, the amount available for allocation under the Bus and Bus-Related category is $668,660,587. Table 9 displays the allocation of the FY 2004 Bus and Bus-Related funds by State and project. Also displayed in Table 9 is the amount of each Bus and Bus-Related project allocation that is currently available for obligation, in accordance with the Surface Transportation Extension Act of 2003. The FY 2004 Conference Report accompanying the Consolidated Appropriations Act, 2004 allocated all of the FY 2004 Bus and Bus-Related funds to specified States or localities for bus and bus-related projects. FTA will fund all designations that comply with the statutory requirements for the program.

Prior year unobligated balances for Bus and Bus-Related allocations in the amount of $645,560,480 remain available for obligation in FY 2004. This includes $624,654,956 in fiscal years 2002 and 2003 unobligated allocations, and $20,905,524 for fiscal years 1998, 1999, 2000, and 2001 unobligated allocations extended in the FY 2004 Conference Report. These unobligated amounts are displayed in Table 9A.

Capital Investment Program funds for Bus and Bus-Related projects identified as having been extended in the Conference Report accompanying the Consolidated Appropriations Act, 2004 will lapse on September 30, 2004. A list of the extended projects and the amounts that remains unobligated as of September 30, 2003, is appended to Table 9A for reference.

In addition, the FY 2004 Conference Report provides clarifications for Bus and Bus-Related projects as follows

(1) San Dieguito Transportation Cooperative, California—Amounts made available from fiscal year 2002 for the San Dieguito Transportation Cooperative, California, shall instead be distributed to the North County Transit District, California, for initial design and planning for a new intermodal center.

(2) Cambria County, Pennsylvania—Amounts made available from fiscal year 2003 for the Cambria County operations and maintenance facility, Pennsylvania, shall be distributed to the Johnstown Inclined Plane visitor's center, Pennsylvania.

(3) Somerset County, Pennsylvania—Amounts made available from fiscal year 2002 for the Somerset County Transportation System buses, Pennsylvania, shall be distributed to Somerset County Accessible Raised Roof Vans ($90,000) and to Somerset County bus and bus facilities ($146,000), Pennsylvania.

(4) Community Medical Centers, California—Amounts made available from fiscal year 2001 for the Community Medical Centers Intermodal Facility, Fresno, California, shall be available for the City of Fresno for the same project. The availability of funds is extended for one year.

(5) Illinois statewide buses—The conference committee expects IDOT to provide at least half the FY 2004 funds made available for downtown Illinois replacement of buses in Bloomington, Champaign-Urbana, Decatur, Madison County, Peoria, Quincy, RIDES, River Valley, Rockford, Rock Island, South Central Illinois MTD, and Springfield. Further the conferees expect IDOT to provide appropriate funds for bus facilities in Bloomington, Galesburg, Rock Island, and Metro Link's bus maintenance facility in St. Clair County.

(6) Civil Rights Trail Trolleys—Amounts made available in fiscal year 2001 for the Montgomery Civil Rights Trail Trolleys shall instead be distributed to the City of Montgomery's Rosa Parks bus project. The availability of funds is extended for one year.

(7) Vermont buses—Amounts made available in fiscal year 2001 for Central Vermont Transit Authority Wheels Transportation Services shall be distributed to the Vermont Agency of Transportation. The availability of funds is extended for one year.

(8) Reno, Nevada, bus projects—Amounts made available for Bus Rapid Transit, South Virginia Street, Reno ($1,950,000) for fiscal year 2003 and Reno Suburban transit coaches ($500,000 in fiscal year 2002) shall be made available for Reno/Sparks intermodal transportation terminals, as proposed by the Senate.

(9) Falls Church Bus Rapid Transit terminus, Virginia—Funds made available for Falls Church Bus Rapid Transit terminus, Virginia, for fiscal year 2001 shall be made available to the City of Falls Church to purchase three 30-foot buses to provide shuttle service from temporary parking lots during the construction of a parking garage at the West Falls Church Metrorail station. Once the garage is completed, the buses will be used to provide feeder service to the West Falls Church Metrorail station. The availability of funds is extended for one year.

(10) Eastchester, Metro North Facilities, New York—Amounts made available in fiscal year 2001 for Eastchester, Metro North Facilities, New York shall instead be distributed to the Bronx Zoo Intermodal Transportation Facility, New York. The availability of funds is extended for one year.

(11) Westbrook, Intermodal Facility, Maine—Amounts made available in fiscal year 2003 for Westbrook, Intermodal Facility, Maine shall instead be distributed to State of Maine, Statewide Buses.

(12) Section 175 of the Consolidated Appropriations Act, 2004 allows the Memphis-Shelby International Airport intermodal facility to be eligible under “Federal Transit Administration, bus and bus facilities.”

X. Job Access and Reverse Commute Program

The Consolidated Appropriations Act, 2004 provides $105 million for the Job Access and Reverse Commute (JARC) Program, reduced to $104,380,500 by the .59 percent rescission. JARC project allocations designated in the accompanying Conference Report are included in this notice as Table 11. The amounts designated in the report have been adjusted to reflect the rescission, and the $298,230 set aside for technical assistance and evaluation of the program. Because TEA-21 requires that JARC project selections be made through a national competition based on statutorily specified criteria, FTA cannot honor the designations in report language without further statutory direction, such as that provided in legislation enacted subsequent to the Appropriations Act in FY 2002 and FY 2003. The Consolidated Appropriations Act, 2004 includes language at Section 547, directing FTA to honor the JARC designations in the report. FTA will not conduct a solicitation for applications for projects to be competitively selected in FY 2004, as no additional funds are available.

The JARC program, established under TEA-21, provides funding for the provision of transportation services designed to increase access to jobs and employment-related activities. Job Access projects are those that transport welfare recipients and low-income individuals, including economically disadvantaged persons with disabilities, in urban, suburban, or rural areas to and from jobs and activities related to their employment. Reverse Commute projects provide transportation services for the general public from urban, suburban, and rural areas to suburban employment opportunities. A total of up to $10,000,000 from the appropriation may be used for Reverse Commute Projects.

Prior year unobligated balances for JARC allocations in the amount of $107,012,264 remain available for obligation in FY 2004. These balances include congressional allocations from fiscal years 2002 and 2003 totaling $103,012,302, along with FY 2002 competitive allocations totaling $3,999,962, which are available through the end of FY 2004. These unobligated amounts are displayed in Table 11A. Congress transferred $4,514,482 from unobligated JARC projects Congressionally designated in the conference reports accompanying the fiscal year 2000 and 2001 Appropriations Acts to the New Starts program. Projects reallocated included all fiscal year 2000 and 2001 JARC Congressional allocations for which FTA had not received an application as of November 7, 2003.

XI. Over-the-Road Bus Accessibility Program

The Consolidated Appropriations Act, 2004 provides $6,908,995 for the Over-the-Road Bus Accessibility (OTRB) Program after the across-the-board .59 percent rescission. Of this amount, $5,219,025 is allocable to providers of intercity fixed-route service, and $1,689,970 to other providers of over-the-road bus services, including local fixed-route service, commuter service, and charter and tour service. The total amount of $3,698,147 is currently available for obligation in accordance with the Surface Transportation Extension Act of 2003. This includes $2,792,101 for intercity fixed-route service and $906,046 for other over-the-road bus services.

The OTRB program authorizes FTA to make grants to operators of over-the-road buses to help finance the incremental capital and training costs of complying with the DOT over-the-road bus accessibility final rule, published on September 28, 1998 (63 FR 51670). Funds will be provided at 90 percent Federal share. FTA conducts a national solicitation of applications and grantees are selected on a competitive basis.

A Federal Register Notice providing program guidance and application procedures for FY 2004 was published in the Federal Register November 24, 2003. Applications were due February 2, 2004.

XII. Clean Fuels Formula Program

TEA-21 established the Clean Fuels Formula Grant Program under section 5308 of Title 49 U.S.C. to assist non-attainment and maintenance areas in achieving or maintaining attainment status and to support markets for emerging clean fuel technologies. No funds were provided for this program in the Consolidated Appropriations Act, 2004. For further information contact Nancy Grubb, FTA Office of Resource Management and State Programs, at (202) 366-2053.

XIII. National Planning and Research Program

The Consolidated Appropriations Act, 2004 provides $35,290,550 for the National Planning and Research Program after the across-the-board .59 percent rescission. Of this amount $25,685,159 is allocated for specific activities after applicable reductions for the Small Business Innovation Research program. The project allocations are listed in Table 10, along with the amount that is currently available for obligation, in accordance with the Surface Transportation Extension Act of 2003. For additional information contact Bruce Robinson, Office of Research, Demonstration and Innovation, at (202) 366-4209.

XIV. Unit Values of Data for Urbanized Area Formula Program, Nonurbanized Area Formula Program, and Fixed Guideway Modernization

The dollar unit values of data derived from the computations of the Urbanized Area Formula Program, the Nonurbanized Area Formula Program, and the Capital Investment Program—Fixed Guideway Modernization apportionments are displayed in Table 14 of this notice. To replicate an area's apportionment, multiply its population, population density, and data from the NTD by the appropriate unit value.

XV. Period of Availability of Funds

The funds apportioned in this notice under the Metropolitan Planning Program and the Statewide Planning and Research Program, the Urbanized Area Formula Program, and Fixed Guideway Modernization Program will remain available to be obligated by FTA to recipients for three fiscal years following FY 2004. Any of these apportioned funds that remain unobligated at the close of business on September 30, 2007, will revert to FTA for reapportionment under the respective program.

Funds apportioned to nonurbanized areas under the Nonurbanized Area Formula Program, including RTAP funds, will remain available for two fiscal years following FY 2004. Any such funds that remain unobligated at the close of business on September 30, 2006, will revert to FTA for reapportionment among the States under the Nonurbanized Area Formula Program. Funds allocated to States under the Elderly and Persons with Disabilities Program in this notice must be obligated by September 30, 2004. Any such funds that remain unobligated as of that date will revert to FTA for reapportionment among the States under the Elderly and Persons with Disabilities Program. The Consolidated Appropriations Act, 2004 includes a provision requiring that FY 2004 New Starts and Bus and Bus-Related funds not obligated for their original purpose as of September 30, 2006, shall be made available for other projects under 49 U.S.C. 5309.

Funds for JARC projects competitively selected by FTA remain available for two fiscal years following the fiscal year of selection. Any such funds that remain unobligated after that time will revert to FTA for reallocation under the JARC program. There were no competitive JARC selections by FTA in FY 2003 and none are anticipated in FY 2004. JARC projects selected by FTA in FY 2002 will revert to FTA for reallocation after September 30, 2004. Congressional allocations of JARC projects remain available to the designated entity unless reallocated by Congress. Congress reallocated unobligated Congressional allocations for JARC projects from fiscal years 2000 and 2001 in the Consolidated Appropriations Act, 2004.

Capital Investment Program funds for New Starts and Bus and Bus-Related projects identified as having been extended in the FY 2004 Conference Report accompanying the Consolidated Appropriations Act, 2004 will lapse September 30, 2004.

XVI. Automatic Pre-Award Authority To Incur Project Costs

This information incorporates and elaborates on guidance previously provided in the FTA FY 2002 and FY 2003 Apportionments and Allocations Notice found at http://www.fta.dot.gov/library/legal/federalregister/2002/fr1202a.pdf and http://www.fta.dot.gov/library/legal/federalregister/2003/fr31203.pdf.

A. Policy

FTA provides blanket or automatic pre-award authority to cover certain program areas described below. This pre-award authority allows grantees to incur project costs prior to grant approval and retain their eligibility for subsequent reimbursement after grant approval. The grantee assumes all risk and is responsible for ensuring that all conditions are met to retain eligibility. This automatic pre-award spending authority permits a grantee to incur costs on an eligible transit capital or planning project without prejudice to possible future Federal participation in the cost of the project or projects. Prior to exercising pre-award authority, grantees must comply with the conditions and Federal requirements outlined in paragraphs B and C immediately below. Failure to do so will render an otherwise eligible project ineligible for FTA financial assistance. In addition, grantees are strongly encouraged to consult with the appropriate FTA regional office if there is any question regarding the eligibility of the project for future FTA funds or the applicability of the conditions and Federal requirements.

Pre-award authority was extended in the June 24, 1998 Federal Register Notice on TEA-21 to all formula funds and flexible funds that will be apportioned during the authorization period of TEA-21, 1998-2003. In the March 12, 2003 Federal Register Notice of FY 2003 Apportionments and Allocations, FTA extended pre-award authority to grantees for project costs to be reimbursed by formula funds and flexible funds to be appropriated in FY 2004. In this notice, FTA is extending this pre-award authority for formula funds and flexible funds that will be appropriated in FY 2005. Pre-award authority for operating and planning projects under the formula grant programs is not limited to the authorization period. Pre-award authority also applies to Capital Investment Bus and Bus-Related allocations identified in this notice. For such section 5309 Capital Investment Bus and Bus-Related projects, the date that costs may be incurred is the date that the appropriation bill in which they are contained is enacted. In this notice, FTA is also extending comparable pre-award authority to those surface transportation projects commonly referred to as section 330 projects administered by FTA, for which amounts were provided in the Department of Transportation and Related Agencies Appropriations Acts (DOT Appropriations Act) in fiscal years 2002 and 2003.

Blanket pre-award authority does not apply to Capital New Starts funds, or to Capital Investment Bus and Bus-Related projects not specified in this or previous notices. Specific instances of pre-award authority for Capital New Starts projects are described in paragraph D below. Before an applicant may incur costs for Bus and Bus-Related Capital projects not listed in this notice or previous notices, it must first obtain a written Letter of No Prejudice (LONP) from FTA. To obtain an LONP, a grantee must submit a written request accompanied by adequate information and justification to the appropriate FTA regional office, as described in section XVII below.

In using pre-award authority for FY 2004 or FY 2005 formula funds, grantees are cautioned that reauthorization may result in changes in program structure, administrative requirements, or funding availability. As with all pre-award authority, activities must be conducted in compliance with Federal requirements in order to retain eligibility for future reimbursement.

B. Conditions

The conditions under which pre-award authority may be utilized are specified below:

(1) The pre-award authority is not a legal or implied commitment that the project(s) will be approved for FTA assistance or that FTA will obligate Federal funds. Furthermore, it is not a legal or implied commitment that all items undertaken by the applicant will be eligible for inclusion in the project(s).

(2) All FTA statutory, procedural, and contractual requirements must be met.

(3) No action will be taken by the grantee that prejudices the legal and administrative findings that the Federal Transit Administrator must make in order to approve a project.

(4) Local funds expended by the grantee pursuant to and after the date of the pre-award authority will be eligible for credit toward local match or reimbursement if FTA later makes a grant for the project(s) or project amendment(s).

(5) The Federal amount of any future FTA assistance awarded to the grantee for the project will be determined on the basis of the overall scope of activities and the prevailing statutory provisions with respect to the Federal/local match ratio at the time the funds are obligated.

(6) For funds to which the pre-award authority applies, the authority expires with the lapsing of the fiscal year funds.

(7) When a grant for the project is subsequently awarded, the Financial Status Report, in TEAM-Web, must indicate the use of pre-award authority.

C. Environmental, Planning, and Other Federal Requirements

FTA emphasizes that all of the Federal grant requirements must be met for the project to remain eligible for Federal funding. Compliance with the National Environmental Policy Act (NEPA) and other environmental laws or executive orders (e.g., protection of parklands, wetlands, and historic properties) must be completed before State or local funds are spent on implementing activities such as final design, construction, and acquisition for a project that is expected to be subsequently funded with FTA funds. Depending on which class the project is included under in FTA environmental regulations, 23 CFR part 771, the grantee may not advance the project beyond planning and preliminary engineering before FTA has issued either a categorical exclusion, 23 CFR part 771.117(d), a finding of no significant impact (FONSI), or an environmental record of decision (ROD). The conformity requirements of the Clean Air Act, 40 CFR part 93, also must be fully met before the project may be advanced into implementation under pre-award authority with non-Federal funds.

Similarly, the requirement that a project be included in a locally adopted metropolitan transportation improvement program and federally approved statewide transportation improvement program must be followed before the project may be advanced with non-Federal funds under pre-award authority. For planning projects, the project must be included in a locally approved Planning Work Program that has been coordinated with the State. In addition, Federal procurement procedures, as well as the whole range of Federal requirements, must be followed for projects in which Federal funding will be sought in the future. Failure to follow any such requirements could make the project ineligible for Federal funding. In short, this increased administrative flexibility requires a grantee to make certain that no Federal requirements are circumvented through the use of pre-award authority. If a grantee has questions or concerns regarding the environmental requirements, or any other Federal requirements that must be met before incurring costs, it should contact the appropriate regional office.

D. Pre-Award Authority for New Starts Projects

The pre-award authorities related to New Starts projects that were provided in the FY 2003 Apportionments and Allocations Notice published in the Federal Register on March 12, 2003, (68 FR 1106 et seq.) remain in effect. The FY 2003 Notice may be found on the FTA Web site at http://www.fta.dot.gov/library/legal/federalregister/2003/fr31203.pdf. The referenced FY 2003 Notice includes a complete description of the conditions that apply to each of the pre-award authorities listed in the chart below:

Pre-award authority to incur cost for: | Preaward authority is effective upon:
NEPA Compliance | Inclusion of Project in the STIP.
Preliminary Engineerinig (PE) | FTA's Approval of Entry into PE.
Acquisition of Real Prooperty | FTA's Complection of the NEPA Process.
Final Design | FTA's Approval of Entry into Final Design.
Construction | Full Funding Grant Agreement.

XVII. Letter of No Prejudice (LONP) Policy

A. Policy

LONP authority allows an applicant to incur costs on a project utilizing non-Federal resources, with the understanding that the costs incurred subsequent to the issuance of the LONP may be reimbursable as eligible expenses or eligible for credit toward the local match should FTA approve the project at a later date. LONPs are applicable to projects and project activities not covered by automatic pre-award authority. The majority of LONPs will be for Section 5309 New Starts funds not covered under a full funding grant agreement or for Section 5309 Bus and Bus-Related funds not yet appropriated by Congress. At the end of an authorization period, LONPs may be issued for formula funds beyond the life of the current authorization or FTA's extension of automatic pre-award authority.

B. Conditions and Federal Requirements

The conditions for pre-award authority specified in Part XVI, B, above apply to all LONPs. The Environmental, Planning and Other Federal Requirements described in Part XVI, C, also apply to all LONPs. Because project implementation activities may not be initiated prior to NEPA completion, FTA will normally not issue an LONP for such activities until the NEPA process has been completed with a ROD, FONSI, or Categorical Exclusion determination.

C. Request for LONP

Before an applicant may incur costs for a project not covered by automatic pre-award authority, it must first submit a written request for an LONP to the appropriate regional office and obtain written approval.

XVIII. Program Guidance

The FTA Web site at http://www.fta.dot.gov is a source of program guidance and current information of interest to FTA grantees, including this apportionment notice. The Web site is currently being redesigned to provide a more customer-focused source of information. Grantees should check the FTA Web site frequently to keep up to date on new postings.

The following FTA program Circulars are posted on the Web site: C9030.1C, Urbanized Area Formula Program: Grant Application Instructions, dated October 1, 1998; C9040.1E, Nonurbanized Area Formula Program Guidance and Grant Application Instructions, dated October 1, 1998; C9070.1E, The Elderly and Persons with Disabilities Program Guidance and Application Instructions, dated October 1, 1998; C9300.1A, Capital Program: Grant Application Instructions, dated October 1, 1998; 4220.1E, Third Party Contracting Requirements, dated June 19, 2003; C5010.1C, Grant Management Guidelines, dated October 1, 1998; C8100.1B, Program Guidance and Application Instructions for Metropolitan Planning Program Grants, dated October 25, 1996; C8200.1, Program Guidance and Application Instructions for State Planning and Research Program Grants, dated December 27, 2001; and C5200.1A, Full Funding Grant Agreement Guidance, dated December 5, 2002. The FY 2004 Annual List of Certifications and Assurances is also posted on the FTA Web site. Other documents on the FTA Web site of particular interest to public transit providers and users include the annual Statistical Summaries of FTA Grant Assistance Programs and the National Transit Database Profiles. The DOT final rule on “Participation by Disadvantaged Business Enterprises in Department of Transportation Financial Assistance Programs,” which was effective July 16, 2003, can be found on the Department's Web site at http://osdbuweb.dot.gov/business/dbe/Docs/03-14989.pdf.

XIX. FTA Fiscal Year 2004 Annual List of Certifications and Assurances

On January 15, 2004, FTA published in the Federal Register the list and accompanying text of all Certifications and Assurances required of recipients of FTA assistance in FY 2004. See, 69 FR 2454 et seq. The full text of the FY 2004 Certifications and Assurances is also accessible both on FTA's Internet Web site at http://www.fta.dot.gov/library/legal/federalregister/2004/2004_CERTS.doc and on TEAM-Web. In compliance with 49 U.S.C. 5323(n), which requires a simultaneous publication of a list of the Certifications and Assurances and FTA's annual notice of Apportionments, recipients are directed to the January 15, 2004, notice at 69 FR 2454 et seq. for the list and text of FTA's Certifications and Assurances and to FTA's Web sites displaying those Certifications and Assurances. Any questions regarding this document may be addressed to the appropriate FTA regional office.

As in previous years, the grant applicant should certify electronically. Under certain circumstances the applicant may enter its Personal Identification Number (PIN) in lieu of an electronic signature provided by its attorney, provided the applicant has on file the current affirmation of its attorney in writing dated this Federal fiscal year. The applicant is advised to contact the appropriate FTA regional office for electronic procedure information.

XX. Grant Application Procedures

Grantees must provide a Dun and Bradstreet (D&B) Data Universal Numbering System (DUNS) number for inclusion in all applications for a Federal grant or cooperative agreement submitted on or after October 1, 2003. The Office of Management and Budget (OMB) published this requirement in the Federal Register on June 27, 2003 at 68 FR 38402 et seq. On August 4, 2003, FTA issued a Dear Colleague letter including instructions on how to obtain a DUNS number, which can be accessed at http://www.fta.dot.gov/office/public/2003/c0314.html. The DUNS number should be entered into the grantee profile in TEAM. Additional information about this and other Federal grant streamlining initiatives mandated by the Federal Financial Assistance Management Improvement Act of 1999 (Pub. L. 106-107) can be accessed on OMB's Web site at http://www.whitehouse.gov/omb/grants/reform.html.

All applications for FTA funds should be submitted to the appropriate FTA regional office. FTA utilizes TEAM-Web, an Internet accessible electronic grant application system, and all applications should be filed electronically. FTA has provided exceptions to the requirement for electronic filing of applications for certain new, non-traditional grantees in the Job Access and Reverse Commute and Over-the-Road Bus Accessibility programs, as well as to a few grantees that have not successfully connected to or accessed TEAM-Web.

In FY 2004 FTA is committed to reducing the average days required to process a grant to 36, while continuing to process at least 80 percent of grants within 60 days of receipt of a completed application by the appropriate Regional Office. In FY 2003, FTA achieved this goal with 83 percent of grants obligated within 60 days of submission of a completed application and an average processing time of 39 days. In order for an application to be considered complete, it must meet the following requirements: all projects must be contained in an approved STIP (when required), all environmental findings must be made by FTA, an adequate project description must be included, the local share must be secured, any flexible funds included in the budget must be secured, all required civil rights submissions must be current, and certifications and assurances must be properly submitted. Once an application is complete, the FTA Regional Office will assign a project number and, when required, submit the application to the Department of Labor (DOL) for a certification under section 5333(b). During FY 2004, any grantees applying for funds available under an extension of TEA-21 before the full year's apportionment becomes available, are encouraged to include contingency items for the remainder of the funds, so that the entire project can be certified by DOL at the time of the initial application. The FTA circulars contain more information regarding application contents. State applicants for section 5311funds are reminded that they must certify to DOL that all subrecipients have agreed to the standard labor protection warranty for section 5311 and provide DOL with specified related information for each grant.

This notice and all program guidance circulars may be accessed via the FTA Web site. Copies of circulars are available from FTA regional offices, as well.

Issued on: February 4, 2004.
Jennifer L. Dorn,
Administrator.

BILLING CODE 4910-57-P

[FR Doc. 04-2741 Filed 2-10-04; 8:45 am]

BILLING CODE 4910-57-C